DEPARTMENT OF COMMERCE

International Trade Administration

[A-552-801]

Certain Frozen Fish Fillets From the Socialist Republic of Vietnam: Preliminary Results, Preliminary Determination of No Shipments, and Partial Rescission of the Antidumping Duty Administrative Review; 2015-2016

AGENCY: Enforcement and Compliance, International Trade Administration, Department of Commerce.

SUMMARY: The Department preliminarily determines that the application of facts available is warranted for mandatory respondent GODACO Seafood Joint Stock Company (GODACO). In addition, the Department preliminarily determines that the application of facts available with an adverse inference is warranted for GODACO because it has not cooperated to the best of its ability. However, the Department preliminarily determines that GODACO qualifies for a separate rate for its exports of subject merchandise to the United States during the period of review (POR) August 1, 2015, through July 31, 2016. The Department also preliminary determines that mandatory respondent Golden Quality Seafood Corporation (Golden Quality) does not qualify for a separate rate and is, therefore, considered a part of the Vietnam-Wide ¹ Entity. If these preliminary results are adopted in the final results, the Department will instruct U.S. Customs and Border Protection (CBP) to assess antidumping duties on all appropriate entries of subject merchandise during the POR. Interested parties are invited to comment on these preliminary results.

¹ The Vietnam-wide entity also includes Thuan An Production Trading and Service Co., Ltd., and Anvifish Joint Stock Company.

DATES: Effective September 12, 2017.

FOR FURTHER INFORMATION CONTACT: Javier Barrientos, AD/CVD Operations, Office V, Enforcement and Compliance, International Trade Administration, U.S. Department of Commerce, 1401 Constitution Avenue NW., Washington, DC 20230; telephone 202-482-2243.

SUPPLEMENTARY INFORMATION:

Background

On October 14, 2016, the Department initiated the 13th administrative review of the antidumping duty order on frozen fish fillets (fish fillets) from Vietnam for the period August 1, 2015, through July 31, 2016.² On April 11, 2017, the Department fully extended the deadline for issuing the preliminary results by 120 days.³ The revised deadline for the preliminary results of this administrative review is August 31, 2017.

² See Initiation of Antidumping and Countervailing Duty Administrative Reviews, 81 FR 71061 (October 14, 2016); see also Appendix I for the complete list of all companies upon which the Department initiated an administrative review.

³ See Certain Frozen Fish Fillets from the Socialist Republic of Vietnam: Extension of Deadline for Preliminary Results of 2015-2016 Administrative Review, dated April 11, 2017.

Scope of the Order

The product covered by the order is frozen fish fillets, including regular, shank, and strip fillets and portions thereof, whether or not breaded or marinated, of the species Pangasius Bocourti, Pangasius Hypophthalmus (also known as Pangasius Pangasius) and Pangasius Micronemus. These products are classifiable under tariff article code 0304.62.0020 (Frozen Fish Fillets of the species Pangasius, including basa and tra), and may enter under tariff article codes 0305.59.0000, 1604.19.2100, 1604.19.3100, 1604.19.4100, 1604.19.5100, 1604.19.6100 and 1604.19.8100 of the Harmonized Tariff Schedule of the United States (“HTSUS”).⁴ Although the HTSUS subheadings are provided for convenience and customs purposes, the written description of the scope of the order is dispositive.⁵

⁴ Until June 30, 2004, these products were classifiable under HTSUS 0304.20.6030, 0304.20.6096, 0304.20.6043 and 0304.20.6057. From July 1, 2004, until December 31, 2006, these products were classifiable under HTSUS 0304.20.6033. From January 1, 2007, until December 31, 2011, these products were classifiable under HTSUS 0304.29.6033. On March 2, 2011, the Department added two HTSUS numbers at the request of U.S. Customs and Border Protection (CBP) that the subject merchandise may enter under: 1604.19.2000 and 1604 19.3000, which were changed to 1604.19.2100 and 1604.19.3100 on January 1, 2012. On January 1, 2012, the Department added the following HTSUS numbers at the request of CBP: 0304.62.0020, 0305.59.0000, 1604.19.4100, 1604.19.5100, 1604.19.6100 and 1604.19.8100.

⁵ For a complete description of the scope of the order, see Certain Frozen Fish Fillets from the Socialist Republic of Vietnam: Decision Memorandum for the Preliminary Results, Preliminary Determination of No Shipments, and Partial Rescission of the 2015-2016 Antidumping Duty Administrative Review, (Preliminary Decision Memorandum) at “Scope of the Order”, dated concurrently with and hereby adopted by this notice.

Partial Rescission of Administrative Review

Pursuant to 19 CFR 351.213(d)(1), the Department will rescind an administrative review, in whole or in part, if the parties that requested a review withdraw the request within 90 days of the date of publication of the notice of initiation. Between December 30, 2015 and January 4, 2016, we received timely withdrawal of review requests for 52 companies from the petitioners,⁶ Bien Dong Seafood Co., Ltd (Bien Dong), and Vinh Hoan Corporation (Vinh Hoan).⁷ Of these 52 companies, 34 do not have any other outstanding review requests. Therefore, in accordance with 19 CFR 351.213(d)(1), the Department is rescinding this review of the antidumping duty order on certain frozen fish fillets from the Socialist Republic of Vietnam with respect to these 34 companies.⁸ The review will continue with respect to the other firms for which a review was requested and initiated.

⁶ Catfish Farmers of America and individual U.S. catfish processors America's Catch, Alabama Catfish Inc. dba Harvest Select Catfish, Inc., Heartland Catfish Company, Magnolia Processing, Inc. dba Pride of the Pond, and Simmons Farm Raised Catfish, Inc. (hereinafter, the petitioners).

⁷ See Bien Dong Seafood Co., Ltd., submission dated January 12, 2017; the petitioners' submission dated December 15, 2016, and January 12, 2017; and Vinh Hoan Corporation submission, dated December 15, 2016.

⁸ See Appendix II for a full list of rescinded companies.

Preliminary Determination of No Shipments

The Department has preliminarily determined that Saigon-Mekong Fishery Co., Ltd. (SAMEFICO), and QVD ⁹ had no shipments during the POR. Consistent with our practice in non-market economy (NME) cases, we will not rescind the review, in part, in this circumstance, but rather, complete the review with respect to these companies and issue appropriate instructions to CBP based on the final results of the review.¹⁰

⁹ These companies include QVD Food Co., Ltd., QVD Dong Thap Food Co., Ltd. and Thuan Hung Co., Ltd.

¹⁰ See Non-Market Economy Antidumping Proceedings: Assessment of Antidumping Duties, 76 FR 65694, 65694-65695 (October 24, 2011).

Methodology

The Department is conducting this review in accordance with sections 751(a)(1)(B) and 751(a)(2)(A) of the Tariff Act of 1930, as amended (the Act). Vietnam is an NME within the meaning of section 771(18) of the Act.

For a full description of the methodology underlying our conclusions, see the Preliminary Decision Memorandum. The Preliminary Decision Memorandum is a public document and is on file electronically via Enforcement and Compliance's Antidumping and Countervailing Duty Centralized Electronic Service System (ACCESS). ACCESS is available to registered users at http://access.trade.gov, and is available to all parties in the Central Records Unit, Room B8024 of the main Department of Commerce building. In addition, a complete version of the Preliminary Decision Memorandum can be accessed directly on the internet at http://enforcement.trade.gov/frn/. The signed Preliminary Decision Memorandum and the electronic versions of the Preliminary Decision Memorandum are identical in content.

Preliminary Results of Review

The Department preliminarily determines that the following weighted-average dumping margins exist for the period August 1, 2015, through July 31, 2016:

¹¹ In the third administrative review of this order, the Department determined that it would calculate per-unit assessment and cash deposit rates for all future reviews. See Certain Frozen Fish Fillets from the Socialist Republic of Vietnam: Final Results of Antidumping Duty Administrative Review and Partial Rescission, 73 FR 15479 (March 24, 2008).

Exporter | Weighted- average margin (dollars/ kilogram) ¹¹
GODACO Seafood Joint Stock Company | ** 2.39
Cadovimex II Seafood Import-Export and Processing Joint Stock * Company | 2.39
Can Tho Import-Export Joint Stock Company, aka CASEAMEX * | 2.39
Cuu Long Fish Joint Stock Company * | 2.39
Dai Thanh Seafoods Company Limited * | 2.39
Green Farms Seafood Joint Stock Company * | 2.39
Hoang Long Seafood Processing Co., Ltd.* | 2.39
Hung Vuong Group * | 2.39
NTSF Seafoods Joint Stock Company * | 2.39
Vinh Quang Fisheries Corporation * | 2.39
* These companies are separate rate respondents not individually examined.
** Although we preliminarily find GODACO to be eligible for a separate rate, its margin is based on adverse facts available (AFA).

Disclosure, Public Comment & Opportunity To Request a Hearing

Normally, the Department discloses to interested parties the calculations performed in connection with the preliminary results within five days of its public announcement or, if there is no public announcement, within five days of the date of publication of this notice in accordance with 19 CFR 351.224(b). However, because the Department preliminarily determined that Golden Quality is part of the Vietnam-wide entity, and GODACO's rate is based entirely on AFA, there are no calculations to disclose.

Interested parties may submit case briefs within 30 days after the date of publication of these preliminary results of review in the Federal Register.¹² Rebuttals to case briefs, which must be limited to issues raised in the case briefs, must be filed within five days after the time limit for filing case briefs.¹³ Parties who submit arguments are requested to submit with the argument: (a) A statement of the issue, (b) a brief summary of the argument, and (c) a table of authorities.¹⁴ Parties submitting briefs should do so pursuant to the Department's electronic filing system, ACCESS.

¹² See 19 CFR 351.309(c)(1)(ii).

¹³ See 19 CFR 351.309(d)(1)-(2).

¹⁴ See 19 CFR 351.309(c)(2), (d)(2).

Pursuant to 19 CFR 351.310(c), interested parties who wish to request a hearing must submit a written request to the Assistant Secretary for Enforcement and Compliance within 30 days of the date of publication of this notice. Requests should contain: (1) The party's name, address and telephone number; (2) the number of participants; and (3) a list of issues parties intend to discuss. Issues raised in the hearing will be limited to those raised in the respective case and rebuttal briefs. If a request for a hearing is made, the Department intends to hold the hearing at the U.S. Department of Commerce, 1401 Constitution Avenue NW., Washington, DC 20230, at a date and time to be determined. See 19 CFR 351.310(d). Parties should confirm by telephone the date, time, and location of the hearing two days before the scheduled date.

The Department intends to issue the final results of this administrative review, which will include the results of our analysis of all issues raised in the case briefs, within 120 days of publication of these preliminary results in the Federal Register, pursuant to section 751(a)(3)(A) of the Act.

Assessment Rates

Upon issuance of the final results, the Department will determine, and CBP shall assess, antidumping duties on all appropriate entries covered by this review.¹⁵ The Department intends to issue assessment instructions to CBP 15 days after the publication date of the final results of this review. With regard to the companies the Department rescinded upon, the Department intends to issue assessment instructions to CBP 15 days after the publication date of this partial rescission of this review.

¹⁵ See 19 CFR 351.212(b).

For any individually examined respondent whose calculated weighted average dumping margin is above de minimis (i.e., 0.50 percent) in the final results of this review, the Department will calculate importer-specific assessment rates on the basis of the ratio of the total amount of dumping calculated for the importer's examined sales to the total entered value of sales, in accordance with 19 CFR 351.212(b)(1). Where an importer- (or customer-) specific ad valorem rate is greater than de minimis, the Department will instruct CBP to collect the appropriate duties at the time of liquidation.¹⁶ Where either a respondent's weighted average dumping margin is zero or de minimis, or an importer- (or customer-) specific ad valorem is zero or de minimis, the Department will instruct CBP to liquidate appropriate entries without regard to antidumping duties.¹⁷

¹⁶ See 19 CFR 351.212(b)(1).

¹⁷ See 19 CFR 351.106(c)(2).

Cash Deposit Requirements

The following cash deposit requirements will be effective upon publication of the final results of this review for shipments of the subject merchandise from Vietnam entered, or withdrawn from warehouse, for consumption on or after the publication date, as provided by sections 751(a)(2)(C) of the Act: (1) For the companies listed above that have a separate rate, the cash deposit rate will be that established in the final results of this review (except, if the rate is zero or de minimis, then zero cash deposit will be required); (2) for previously investigated or reviewed Vietnam and non-Vietnam exporters not listed above that received a separate rate in a prior segment of this proceeding, the cash deposit rate will continue to be the existing exporter-specific rate; (3) for all Vietnam exporters of subject merchandise that have not been found to be entitled to a separate rate, the cash deposit rate will be that for the Vietnam-wide entity; and (4) for all non-Vietnam exporters of subject merchandise which have not received their own rate, the cash deposit rate will be the rate applicable to the Vietnam exporter that supplied that non-Vietnam exporter. These deposit requirements, when imposed, shall remain in effect until further notice.

Notification to Importers

This notice also serves as a preliminary reminder to importers of their responsibility under 19 CFR 351.402(f)(2) to file a certificate regarding the reimbursement of antidumping duties prior to liquidation of the relevant entries during the POR. Failure to comply with this requirement could result in the Department's presumption that reimbursement of antidumping duties occurred and the subsequent assessment of double antidumping duties.

This preliminary determination is issued and published in accordance with sections 751(a)(1) and 777(i)(1) of the Act.

Dated: August 31, 2017.
Gary Taverman,
Deputy Assistant Secretary for Antidumping and Countervailing Duty Operations, performing the non-exclusive functions and duties of the Assistant Secretary for Enforcement and Compliance.

Appendix I

List of Topics Discussed in the Preliminary Decision Memorandum

1. Summary

2. Case History

3. Scope of the Order

4. Discussion of the Methodology

a. Affiliations

b. Partial Rescission

c. Selection of the Respondents

d. Preliminary Determination of No Reviewable Transactions

e. NME Country Status

f. Separate Rates

g. Application of Facts Available and Use of Adverse Inference

5. Recommendation

Appendix II

(1) An My Fish Joint Stock Company (also known as Anmyfish or Anmyfishco)

(2) An Phat Seafood Co. Ltd. (also known as An Phat Import-Export Seafood Co., Ltd.)

(3) An Phu Seafood Corporation (also known as ASEAFOOD or An Phu Seafood Corp.)

(4) Asia Commerce Fisheries Joint Stock Company (also known as Acomfish JSC or Acomfish)

(5) Basa Joint Stock Company (BASACO)

(6) Ben Tre Aquaproduct Import and Export Joint Stock Company (also known as Bentre Aquaproduct, Bentre Aquaproduct Import & Export Joint Stock Company or Aquatex Bentre)

(7) Bentre Forestry and Aquaproduct Import Export Joint Stock Company (also known as (Ben Tre Forestry and Aquaproduct Import-Export Company or Ben Tre Forestry Aquaproduct Import- Export Company or Ben Tre Frozen Aquaproduct Export Company or Faquimex)

(8) Binh An Seafood Joint Stock Company (also known as Binh An or Binh An Seafood Joint Stock Co.)

(9) C.P. Vietnam Corporation

(10) Cafatex Corporation (also known as Cafatex)

(11) Can Tho Animal Fishery Products Processing Export Enterprise (also known as Cafatex)

(12) Cuu Long Fish Import-Export Corporation (also known as CL Panga Fish)

(13) Da Nang Seaproducts Import-Export Corporation (also known as Da Nang)

(14) East Sea Seafoods LLC (also known as ESS LLC, ESS, East Sea Seafoods Limited Liability Company, East Sea Seafoods Joint Venture Co., Ltd.)

(15) Fatifish Company Limited (also known as FATIFISH)

(16) Hai Huong Seafood Joint Stock Company (also known as HHFish, HH Fish, or Hai Huong Seafood)

(17) Hiep Thanh Seafood Joint Stock Company (also known as Hiep Thanh or Hiep Thanh Seafood Joint Stock Co.)

(18) Hoa Phat Seafood Import-Export and Processing J.S.C. (also known as HOPAFISH or Hoa Phat Seafood Import-Export and Processing Joint Stock Company)

(19) Hung Vuong Seafood Joint Stock Company

(20) Lian Heng Investment Co., Ltd. (also known as Lian Heng or Lian Heng Investment)

(21) Lian Heng Trading Co., Ltd. (also known as Lian Heng or Lian Heng Trading)

(22) Nam Viet Corporation (also known as NAVICO)

(23) Ngoc Ha Co. Ltd. Food Processing and Trading (also known as Ngoc Ha or Ngoc Ha Co., Ltd. Foods Processing and Trading)

(24) Nha Trang Seafoods, Inc. (also known as Nha Trang Seafoods-F89, Nha Trang Seafoods, or Nha Trang Seaproduct Company)

(25) Quang Minh Seafood Company Limited (also known as Quang Minh, Quang Minh Seafood Co., Ltd., or Quang Minh Seafood Co.)

(26) Seafood Joint Stock Company No. 4 Branch Dongtam Fisheries Processing Company (also known as DOTASEAFOODCO or Seafood Joint Stock Company No. 4—Branch Dong Tam Fisheries Processing Company)

(27) Sunrise Corporation

(28) TG Fishery Holdings Corporation (also known as TG)

(29) To Chau Joint Stock Company (also known as TOCHAU)

(30) Van Duc Food Export Joint Stock Company

(31) Van Duc Tien Giang Food Export Company

(32) Viet Hai Seafood Company Limited (also known as Viet Hai or Vietnam Fish-One Co., Ltd.)

(33) Viet Phu Foods & Fish Co., Ltd.

(34) Viet Phu Foods and Fish Corporation (also known as Vietphu, Viet Phu, Viet Phu Food and Fish Corporation, or Viet Phu Food & Fish Corporation)

[FR Doc. 2017-19288 Filed 9-11-17; 8:45 am]

BILLING CODE 3510-DS-P